DEPARTMENT OF ENERGY

Support of Deployment of Prototype Small Modular Reactors at the Savannah River Site

AGENCY: Savannah River Operations Office, Department of Energy (DOE).

ACTION: Notice of availability.

SUMMARY: DOE-Savannah River Operations Office (SR), in conjunction with the Savannah River National Laboratory (SRNL), announces the availability of support for deployment of Small Modular Reactors (SMR) on the Savannah River Site (SRS).

DATES: DOE-SR is available to discuss a program of support to domestic SMR developers until May 23, 2013.

ADDRESSES: The anticipated specific support available is outlined in a separate Document, “Products and Services Available to Small Modular Reactor (SMR) Vendors at the Savannah River Site (SRS).” Copies of that document may be obtained by contacting Sandra Johnson, the lead point of contact for siting SMRs at SRS. Ms. Johnson may be reached at 803-725-8997 or Sandra.Johnson@srs,gov.

FOR FURTHER INFORMATION CONTACT: Helen Belencan, DOE-SR, at 803-952-8696 or Helen.Belencan@srs.gov; or Ron Schroder, SRNL, at 803-952-6527 or Ronald.Schroder@srs.gov.

SUPPLEMENTARY INFORMATION: Support, via specific agreements between DOE-SR, SRNL and vendors, may include access to the SRS's real property, energy facilities, and nuclear expertise to support potential private sector development, testing and licensing of prototype SMR technologies for siting at SRS. DOE-SR welcomes inquiries from domestic SMR developers regarding the support that is available.

This Notice is not intended to create or remove any rights or duties, nor is it intended to affect any other aspect of DOE regulations. Furthermore, this Notice does not, and is not intended to, have the force and effect of law.

Issued in Aiken, South Carolina, on May 14, 2012.
David C. Moody,
Manager.

[FR Doc. 2012-12486 Filed 5-22-12; 8:45 am]

BILLING CODE 6450-01-P